DEPARTMENT OF VETERANS AFFAIRS

Scoping Notice for Preparation of a Programmatic Environmental Assessment for the National Cemetery Administration

AGENCY: Department of Veterans Affairs.

ACTION: Notice.

SUMMARY: The Department of Veterans Affairs (VA) is preparing a programmatic environmental assessment (PEA) in accordance with the regulations implementing the procedural provisions of the National Environmental Policy Act (NEPA) of 1969, as implemented by the Council on Environmental Quality regulations, and VA's NEPA Implementing Regulations.

DATES: Comments must be received on or before January 17, 2024. VA anticipates releasing the draft PEA for a 30-day public review and comment period in the first quarter of calendar year 2024. VA will notify stakeholders via email/mail, publish a notice of availability of the draft PEA in the Federal Register and solicit comments at that time. The draft PEA will be available for review via the VA website: www.cfm.va.gov/environmental/.

ADDRESSES: Comments must be submitted through www.regulations.gov. Except as provided below, comments received before the close of the comment period will be available at www.regulations.gov for public viewing, inspection, or copying, including any personally identifiable or confidential business information that is included in a comment. We post the comments received before the close of the comment period on the following website as soon as possible after they have been received: http://www.regulations.gov. VA will not post on Regulations.gov public comments that make threats to individuals or institutions or suggest that the commenter will take actions to harm the individual. VA encourages individuals not to submit duplicative comments. We will post acceptable comments from multiple unique commenters even if the content is identical or nearly identical to other comments. Any public comment received after the comment period's closing date is considered late and will not be considered.

FOR FURTHER INFORMATION CONTACT: Mr. Fernando Fernandez, Environmental Engineer, Office of Construction and Facilities Management (003C2), Department of Veterans Affairs, Washington, DC 20420, (202) 876-7608 (this is not a toll-free number), Fernando.Fernandez@va.gov. Reference “National Cemetery Expansion PEA” in your correspondence.

SUPPLEMENTARY INFORMATION: The VA National Cemetery Administration provides burial services, including gravesites, grave markers, and gravesite maintenance for eligible Veterans, spouses, and dependents. The National Cemetery Administration currently operates 155 National Cemeteries in 42 states and Puerto Rico and 34 soldiers' lots and monument sites across the United States. The PEA will evaluate VA's Proposed Action to undertake future expansions and/or infrastructure and building improvements at all VA National Cemeteries with the sole intent to maintain and improve the service to Veterans and their family and loved ones. The PEA aims to provide a streamlined NEPA compliance process for future National Cemetery expansion projects that would result in less than significant environmental impacts.

This notice initiates the scoping process for the PEA and invites the public, government agencies, and other interested persons and organizations to provide comments on the scope of issues for analysis, input on potential alternatives, or information/analyses relevant to the proposed action.

Use of the PEA would decrease the time and cost associated with having to prepare stand-alone NEPA documentation for those future National Cemetery projects that would meet the conditions of the PEA while ensuring that the environment is preserved. VA would complete additional NEPA compliance as required for projects outside the parameters of the PEA.

The proposed action supports burial requests for eligible individuals and provides sufficient infrastructure to support the needs of Veterans, spouses, dependents, and staff at existing National Cemeteries. The proposed action is needed to provide burial benefits and services to Veterans, spouses, and dependents.

The PEA will evaluate the potential direct and indirect impacts on the human environment from the proposed action and alternatives. VA will make the draft PEA available for a public comment period following its completion.

Signing Authority

Denis McDonough, Secretary of Veterans Affairs, approved and signed this document on December 11, 2023, and authorized the undersigned to sign and submit the document to the Office of the Federal Register for publication electronically as an official document of the Department of Veterans Affairs.

Luvenia Potts,
Regulation Development Coordinator, Office of Regulation Policy & Management, Office of General Counsel, Department of Veterans Affairs.

[FR Doc. 2023-27713 Filed 12-15-23; 8:45 am]

BILLING CODE 8320-01-P